DEPARTMENT OF COMMERCE

National Oceanic and Atmospheric Administration

RIN 0648-XG640

Pacific Fishery Management Council; Public Meeting

AGENCY: National Marine Fisheries Service (NMFS), National Oceanic and Atmospheric Administration (NOAA), Commerce.

ACTION: Notice of public meeting (webinar).

SUMMARY: The Pacific Fishery Management Council (Pacific Council) and the National Marine Fisheries Service Northwest Fisheries Science Center (NWFSC) will hold a meeting via webinar to discuss data issues and solicit participants' knowledge to inform new stock assessments for cabezon. The webinar meeting is open to the public.

DATES: The Pacific Council and NWFSC webinar will be held Friday, December 14, 2018, from 10 a.m. to noon, Pacific Standard Time or until business for the day has been completed.

ADDRESSES: The Pacific Council and NWFSC meeting will be held by webinar. To attend the webinar, (1) join the meeting by visiting this link https://www.gotomeeting.com/webinar, (2) enter the webinar ID: 528-106-707, and (3) enter your name and email address (required). After logging into the webinar, please (1) dial this TOLL number: 1-213-929-4232 (not a toll-free number); (2) enter the attendee phone audio access code: 308-416-601; and (3) then enter your audio phone pin (shown after joining the webinar). NOTE: We have disabled mic/speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see the https://www.gotomeeting.com/webinar/ipad-iphone-android-webinar-apps). You may send an email to Mr. Kris Kleinschmidt at Kris.Kleinschmidt@noaa.gov or contact him at (503) 820-2280, extension 411 for technical assistance.

Public listening stations will also be available at the following locations:

• Pacific Fishery Management Council, 7700 NE Ambassador Place, Suite 101, Portland, OR 97220;

• Room FSH 203, School of Aquatic and Fishery Sciences, University of Washington, Seattle, WA 98195; and

• Barry Fisher Room, Guin Library, Hatfield Marine Science Center, 2030 Marine Science Drive, Newport, OR 97365.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the Pacific Council and NWFSC webinar meeting is to review available data and solicit knowledge from participants that may inform the next assessments of West Coast cabezon scheduled to be conducted next year.

No management actions will be decided by participants in the Pacific Council and NWFSC webinar meeting. Information gathered during the webinar may be used to inform next year's assessments of cabezon on the West Coast.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the webinar participants to take final action to address the emergency.

Special Accommodations

This meeting is physically accessible to people with disabilities. Requests for sign language interpretation or other auxiliary aids should be directed to Mr. Kris Kleinschmidt at (503) 820-2411 at least 10 days prior to the meeting date.

Dated: November 21, 2018.
Rey Israel Marquez,
Acting Deputy Director, Office of Sustainable Fisheries, National Marine Fisheries Service.

[FR Doc. 2018-25829 Filed 11-26-18; 8:45 am]

BILLING CODE 3510-22-P